FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted February 1, 2013 Thru February 28, 2013
02/01/2013
20130419 | G | NCR Corporation; Retalix Ltd.; NCR Corporation.
20130471 | G | Sun Pharmaceutical Industries Limited; Takeda Pharmaceutical Company Limited; Sun Pharmaceutical Industries Limited.
20130502 | G | GT Nexus, Inc.; Warburg Pincus Equity Partners Liquidating Trust; GT Nexus, Inc.
20130503 | G | Warburg Pincus Equity Partners Liquidating Trust; GT Nexus, Inc.; Warburg Pincus Equity Partners Liquidating Trust.
20130523 | G | Parkland Fuel Corporation; AvenEx Energy Corp.; Parkland Fuel Corporation.
20130533 | G | athenahealth, Inc.; Epocrates, Inc.; athenahealth, Inc.
20130542 | G | Energy Capital Partners II-A, L.P.; EnergySolutions, Inc. Energy Capital Partners II-A, L.P.
20130545 | G | John C. Martin, Ph.D.; Gilead Sciences, Inc.; John C. Martin, Ph.D.
20130547 | G | Jindal Poly Films Limited; Exxon Mobil Corporation; Jindal Poly Films Limited.
20130548 | G | Global Partners LP; Mason M. Evans; Global Partners LP.
02/04/2013
20130480 | G | Baxter International Inc.; Investor AB; Baxter International Inc.
20130550 | G | Sauder Holdings Ltd.; Rayonier Inc.; Sauder Holdings Ltd.
20130557 | G | AB Acquisition LLC; SUPERVALU INC.; AB Acquisition LLC.
02/05/2013
20130530 | G | Knight Capital Group, Inc.; GETCO Holding Company, LLC; Knight Capital Group, Inc.
20130531 | G | GETCO Holding Company, LLC; Knight Capital Group, Inc.; GETCO Holding Company, LLC.
20130536 | G | Health Care Service Corporation; Blue Cross and Blue Shield of Montana, Inc.; Health Care Service Corporation.
20130537 | G | GA-GTCO Interholdco, LLC; Holdco; GA-GTCO Interholdco, LLC.
02/06/2013
20130556 | G | Centene Corporation; Enhanced Equity Fund II, L.P.; Centene Corporation.
20130561 | G | Allergan, Inc.; MAP Pharmaceuticals, Inc.; Allergan, Inc.
02/08/2013
20130559 | G | Siemens Aktiengesellschaft; Invensys plc; Siemens Aktiengesellschaft.
20130565 | G | Integrys Energy Group, Inc.; ITOCHU Corporation; lntegrys Energy Group, Inc.
20130566 | G | Integrys Energy Group, Inc.; General Electric Company; Integrys Energy Group, Inc.
20130573 | G | Fidelity National Information Services, Inc.; mFoundry, Inc.; Fidelity National Information Services, Inc.
02/11/2013
20130570 | G | E-Land World Ltd.; K-Swiss Inc.; E-Land World Ltd.
02/12/2013
20130521 | G | Highmark Inc.; Sisters of Saint Joseph of Northwestern Pennsylvania; Highmark Inc.
02/13/2013
20130554 | G | Elliott Associates, L.P.; Hess Corporation; Elliott Associates, L.P.
20130555 | G | Elliott International Limited; Hess Corporation; Elliott International Limited.
02/14/2013
20130538 | G | Care New England Health System, Inc.; Southeastern Healthcare System, Inc.; Care New England Health System, Inc.
02/15/2013
20130582 | G | The Lion Fund, L.P.; Biglari Holdings Inc.; The Lion Fund, L.P.
20130583 | G | ACI Worldwide, Inc.; Online Resources Corporation; ACI Worldwide, Inc.
20130584 | G | Garnett & Helfrich Capital, L.P.; Pervasive Software Inc.; Garnett & Helfrich Capital, L.P.
20130585 | G | James C. Flores; Freeport-McMoRan Copper & Gold Inc.; James C. Flores.
20130586 | G | Berkshire Fund VIII, L.P.; AEA Investors 2006 Fund L.P.; Berkshire Fund VIII, L.P.
20130588 | G | Oracle Corporation; Acme Packet, Inc.; Oracle Corporation.
20130594 | G | Praxair, Inc.; Aurora Equity Partners III L.P.; Praxair, Inc.
20130595 | G | MSG SAV LP MSG Interposed LP; MSG SAV LP.
20130597 | G | Ronald M. Simon; Onex Partners II LP; Ronald M. Simon.
20130598 | G | Ronald M. Simon; Ronald M. Simon; Ronald M. Simon.
02/19/2013
20130589 | G | Denbury Resources Inc.; ConocoPhillips; Denbury Resources Inc.
20130590 | G | Lindsay Goldberg III CR AIV L.P.; LaFarge S.A.; Lindsay Goldberg III CR AIV L.P.
02/20/2013
20130553 | G | Leucadia National Corporation; Knight Capital Group, Inc.; Leucadia National Corporation.
20130572 | G | NETGEAR, Inc.; Sierra Wireless, Inc.; NETGEAR, Inc.
20130591 | G | Valeant Pharmaceuticals International, Inc.; Eisai Co., Ltd.; Valeant Pharmaceuticals International, Inc.
20130596 | G | H.I.G. Capital Partners IV, L.P.; Raymond and Alice Wong; H.I.G. Capital Partners IV, L.P.
02/21/2013
20130587 | G | JLL Partners Fund VI, L.P.; BioClinica, Inc.; JLL Partners Fund VI, L.P.
02/22/2013
20130567 | G | Daniel B. Gilbert; Greektown Superholdings, Inc.; Daniel B. Gilbert.
02/25/2013
20130579 | G | Lite-On Technology Corporation; Lite-On IT Co., Ltd.; Lite-On Technology Corporation.
20130605 | G | B&C Privatstiftung; AMAG Austria Metall AG; B&C Privatstiftung.
20130607 | G | ABRY Partners VII, L.P.; Datapipe Holding Company, Inc.; ABRY Partners VII, L.P.
20130608 | G | One Rock Capital Partners, L.P.; MVC Capital, Inc.; One Rock Capital Partners, L.P.
20130609 | G | Norbert W. Bischofberger, Ph.D.; Gilead Sciences, Inc.; Norbert W. Bischofberger, Ph.D.
20130611 | G | Reliance Steel & Aluminum Co.; Metals USA Holdings Corp.; Reliance Steel & Aluminum Co.
20130616 | G | Eastern Maine Healthcare Systems; Catholic Health East; Eastern Maine Healthcare Systems.
02/26/2013
20130593 | G | Marcato International Ltd.; Lear Corporation; Marcato International Ltd.
02/27/2013
20130252 | G | Bertelsmann Stiftung; Newco Bertelsmann Stiftung.
20130562 | G | TPG VI DE AIV II, LP; ConvergEx Holdings, LLC TPG VI DE AIV II, LP.
20130617 | G | Paine & Partners Capital Fund Ill, L.P.; Sun Capital Partners V, L.P.; Paine & Partners Capital Fund III, L.P.

For Further Information Contact:

Renee Chapman, Contact Representative

or

Theresa Kingsberry, Legal Assistant, Federal Trade Commission, Premerger Notification Office, Bureau of Competition, Room H-303, Washington, DC 20580, (202) 326-3100.

By Direction of the Commission.
Donald S. Clark,
Secretary.

[FR Doc. 2013-06061 Filed 3-19-13; 8:45 am]

BILLING CODE 6750-01-M